SMALL BUSINESS ADMINISTRATION

[Disaster Declaration #17546 and #17547; Kentucky Disaster Number KY-00093]

Presidential Declaration Amendment of a Major Disaster for the State of Kentucky

AGENCY: Small Business Administration.

ACTION: Amendment 2.

SUMMARY: This is an amendment of the Presidential declaration of a major disaster for the State of Kentucky (FEMA-4663-DR), dated 07/30/2022.

Incident: Severe Storms, Flooding, Landslides, and Mudslides.

Incident Period: 07/26/2022 and continuing.

DATES: Issued on 08/04/2022.

Physical Loan Application Deadline Date: 09/28/2022.

Economic Injury (EIDL) Loan Application Deadline Date: 05/01/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Kentucky, dated 07/30/2022, is hereby amended to include the following areas as adversely affected by the disaster:

Primary Counties (Physical Damage and Economic Injury Loans): Owsley.

Contiguous Counties (Economic Injury Loans Only): No Additional Contiguous Counties.

All other information in the original declaration remains unchanged.

(Catalog of Federal Domestic Assistance Number 59008)

Joshua Barnes,
Acting Associate Administrator for Disaster Assistance.

[FR Doc. 2022-17244 Filed 8-10-22; 8:45 am]

BILLING CODE 8026-09-P